DEPARTMENT OF HEALTH AND HUMAN SERVICES

Centers for Disease Control and Prevention

Board of Scientific Counselors, National Center for Public Health Informatics (BSC, NCPHI)

Correction: The notice was published in the Federal Register on August 18, 2009 [Volume 74, Number 158] [page 41712]. The “Matters To Be Discussed” has been revised: The board will discuss public health informatics issues related to the H1N1 virus; CDC public health informatics strategies and goals, including future program activities; and how the board can provide informatics scientific input to CDC.

Contact Person for More Information: Dr. Scott McNabb, National Center for Public Health Informatics, CDC, 1600 Clifton Road, NE., Mailstop E-78, Atlanta, Georgia 30333, Telephone (404) 498-6427, Fax (404) 498-6235.

The Director, Management Analysis and Services Office, has been delegated the authority to sign Federal Register notices pertaining to announcements of meetings and other committee management activities for both the CDC and the Agency for Toxic Substance and Disease Registry.

Dated: August 18, 2009.
Elaine L. Baker,
Director, Management Analysis and Services Office, Centers for Disease Control and Prevention.

[FR Doc. E9-20575 Filed 8-25-09; 8:45 am]

BILLING CODE 4163-18-P